DEPARTMENT OF COMMERCE

International Trade Administration

[A-428-850]

Thermal Paper From Germany: Preliminary Affirmative Determination of Sales at Less Than Fair Value, Preliminary Affirmative Determination of Critical Circumstances in Part, Postponement of Final Determination, and Extension of Provisional Measures; Correction

AGENCY: Enforcement and Compliance, International Trade Administration, Department of Commerce.

SUMMARY: The Department of Commerce (Commerce) published notice in the Federal Register of May 12, 2021, in which Commerce made a preliminary affirmative determination of sales at less than fair value (LTFV) of thermal paper from Germany. This notice failed to include language regarding the suspension of liquidation for Papierfabrik August Koehler SE (Koehler) during the critical circumstances period.

DATES: Applicable May 12, 2021.

FOR FURTHER INFORMATION CONTACT: David Goldberger, AD/CVD Operations, Office II, Enforcement and Compliance, International Trade Administration, U.S. Department of Commerce, 1401 Constitution Avenue NW, Washington, DC 20230; telephone: (202) 482-4136.

SUPPLEMENTARY INFORMATION:

Correction

In the Federal Register of May 12, 2021, in FR Doc 2021-09965, on page 26002, in the second column, correct the “Suspension of Liquidation” section to add the following second and third paragraphs which had been omitted:

Section 733(e)(2) of the Tariff Act of 1930, as amended (the Act), provides that, given an affirmative determination of critical circumstances, the suspension of liquidation shall apply to unliquidated entries of subject merchandise entered, or withdrawn from warehouse, for consumption on or after the later of: (a) The date which is 90 days before the date on which the suspension of liquidation was first ordered; or (b) the date on which notice of initiation of the investigation was published. As noted above, Commerce preliminarily finds that critical circumstances exist for imports of subject merchandise produced and exported by Koehler. In accordance with section 733(e)(2)(A) of the Act, the suspension of liquidation shall apply to unliquidated entries of shipments of thermal paper from Germany that were produced and/or exported by Koehler that are entered, or withdrawn from warehouse, for consumption on or after February 11, 2021, which is 90 days before the publication date of the Preliminary Determination in the Federal Register.

These suspension of liquidation instructions will remain in effect until further notice.

Background

On May 12, 2021, Commerce published in the Federal Register a preliminary affirmative determination of sales at LTFV of thermal paper from Germany.¹ This notice failed to include language regarding the suspension of liquidation for Koehler during the critical circumstances period.

¹ See Thermal Paper from Germany: Preliminary Affirmative Determination of Sales at Less Than Fair Value, Preliminary Affirmative Determination of Critical Circumstances in Part, Postponement of Final Determination, and Extension of Provisional Measures, 86 FR 26001 (May 12, 2021).

Notification to Interested Parties

This notice serves as a correction and is published in accordance with sections 773(f) and 777(i)(1) of the Act and 19 CFR 351.205(c).

Dated: May 12, 2021.
Christian Marsh,
Acting Assistant Secretary for Enforcement and Compliance.

[FR Doc. 2021-10438 Filed 5-17-21; 8:45 am]

BILLING CODE 3510-DS-P